DEPARTMENT OF DEFENSE

GENERAL SERVICES ADMINISTRATION

NATIONAL AERONAUTICS AND SPACE ADMINISTRATION

48 CFR Parts 2 and 52

[FAC 2005-29 Correction; Docket 2008-0001; Sequence 1]

Federal Acquisition Regulation; Corrections

AGENCIES: Department of Defense (DOD), General Services Administration (GSA), and National Aeronautics and Space Administration (NASA).

ACTION: Corrections.

SUMMARY: The Civilian Agency Acquisition Council and the Defense Acquisition Regulations Council are issuing corrections to FAC 2005-29, FAR Case 2007-013, which was published in the Federal Register at 73 FR 67703 and 67704, November 14, 2008.

EFFECTIVE DATE: January 15, 2009.

FOR FURTHER INFORMATION CONTACT Ms. Laurieann Duarte at (202) 501-4755, General Services Administration, Regulatory Secretariat, Washington, DC 20405.

CORRECTIONS

In the final rule document appearing in the issue of November 14, 2008:

2.101 [Corrected]

1. On page 67703, second column, under section 2.101, remove from paragraph (b)(6) “2.1801” and add “22.1801” in its place.

52.222-54 [Corrected]

2. On page 67704, third column, under section 52.222-54, remove from the introductory paragraph “and 12.301(d)(3)”.

Dated: November 20, 2008.
Al Matera,
Director, Acquisition Policy Division.

[FR Doc. E8-27952 Filed 11-25-08; 8:45 am]

BILLING CODE 6820-EP-S